DEPARTMENT OF THE TREASURY

Submission for OMB Review; Comment Request

May 21, 2014.

The Department of the Treasury will submit the following information collection requests to the Office of Management and Budget (OMB) for review and clearance in accordance with the Paperwork Reduction Act of 1995, Public Law 104-13, on or after the date of publication of this notice.

DATES: Comments should be received on or before June 26, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submission(s) may be obtained by emailing PRA@treasury.gov, calling (202) 622-1295, or viewing the entire information collection request at www.reginfo.gov.

Office of International Affairs

OMB Number: 1505-0001.

Type of Review: Revision of a currently approved collection.

Title: Treasury International Capital Form S, “Purchases and Sales of Long-term Securities by Foreign-Residents.”

Form: Form S.

Abstract: Form S is part of the Treasury International Capital (TIC) reporting system, which is required by law (22 U.S.C. 286f; 22 U.S.C. 3103; E.O. 10033; 31 CFR part 128), and is designed to collect timely information on international portfolio capital movements. Form S is a monthly report used to cover transactions in long-term marketable securities undertaken directly with foreigners by banks, other depository institutions, brokers, dealers, underwriting groups, funds and other individuals and institutions. This information is used by the U.S. Government in the formulation of international financial and monetary policies and for the preparation of the U.S. balance of payments accounts and the U.S. international investment position.

Affected Public: Businesses or other for-profit organizations.

Estimated Annual Burden Hours: 13,452.

OMB Number: 1505-0010.

Type of Review: Revision of a currently approved collection.

Title: Monthly Consolidated Foreign Currency Report of Major Market Participants.

Form: Form FC-2.

Abstract: The filing of Foreign Currency Form FC-2 is pursuant to 31 U.S.C. 5315, which directs the Secretary of the Treasury to prescribe regulations (31 CFR part 128, Subpart C), requiring reports on foreign currency transactions conducted by a United States person or a foreign person controlled by a United States person. The form collects monthly consolidated data on the foreign exchange contracts and foreign currency denominated assets and liabilities of significant market participants.

Affected Public: Businesses or other for-profit organizations.

Estimated Annual Burden Hours: 1,080.

OMB Number: 1505-0012.

Type of Review: Revision of a currently approved collection.

Title: Weekly Consolidated Foreign Currency Report of Major Market Participants.

Form: Form FC-1.

Abstract: The filing of Foreign Currency Form FC-1 is pursuant to 31 U.S.C. 5315, which directs the Secretary of the Treasury to prescribe regulations (31 CFR part 128, Subpart C), requiring reports on foreign currency transactions conducted by a United States person or a foreign person controlled by a United States person. The form collects weekly consolidated data on the foreign exchange contracts and positions of significant market participants.

Affected Public: Businesses or other for-profit organizations.

Estimated Annual Burden Hours: 1,040.

OMB Number: 1505-0014.

Type of Review: Revision of a currently approved collection.

Title: Quarterly Consolidated Foreign Currency Report.

Form: Form FC-3.

Abstract: The filing of Foreign Currency Form FC-3 is pursuant to 31 U.S.C. 5315, which directs the Secretary of the Treasury to prescribe regulations (31 CFR part 128, Subpart C), requiring reports on foreign currency transactions conducted by a United States person or a foreign person controlled by a United States person. The form collects quarterly consolidated data on foreign exchange contracts and foreign currency denominated assets and liabilities of foreign exchange market participants.

Affected Public: Businesses or other for-profit organizations.

Estimated Annual Burden Hours: 1,728.

OMB Number: 1505-0123.

Type of Review: Revision of a currently approved collection.

Title: Survey of Foreign-Residents' Holdings of U.S. Securities.

Form: Form SHL, Form SHLA.

Abstract: These forms are used to conduct annual surveys of holdings by foreign-residents of U.S. securities for portfolio investment purposes. These data are used by the U.S. Government in the formulation of international and financial policies and for the computation of the U.S. balance of payments accounts and the U.S. international investment position. These data will also be used to provide information to the public and to meet international reporting commitments. The benchmark survey (Form SHL) is conducted once every five years; in nonbenchmark years, an annual survey (Form SHLA) is conducted.

Affected Public: Businesses or other for-profit organizations.

Estimated Annual Burden Hours: 32,053.

OMB Number: 1505-0235.

Type of Review: Revision of a currently approved collection.

Title: Treasury International Capital Form SLT, “Aggregate Holdings of Long-Term Securities by U.S. and Foreign Residents.”

Form: TIC Form SLT.

Abstract: Form SLT is part of the Treasury International Capital (TIC) reporting system, which is required by law (22 U.S.C. 286f; 22 U.S.C. 3103; E.O. 10033; 31 CFR part 128) for the purpose of providing timely information on international capital movements. Form SLT is used to collect monthly data on cross-border ownership by U.S. and foreign residents of long-term securities for portfolio investment purposes. These data are used by the U.S. Government in the formulation of international and financial policies and for the preparation of the U.S. balance of payments accounts and the U.S. international investment position. Form SLT is filed by U.S.-resident custodians, U.S.-resident issuers of long-term securities, and U.S.-resident end-investors (including endowments, foundations, pension funds, mutual funds, and other investment managers/advisors/sponsors) in long-term foreign securities.

Affected Public: Businesses or other for-profit organizations; not-for-profit institutions.

Estimated Annual Burden Hours: 42,912.

Brenda Simms,
Treasury PRA Clearance Officer.

[FR Doc. 2014-12118 Filed 5-23-14; 8:45 am]

BILLING CODE 4810-25-P